DEPARTMENT OF AGRICULTURE

Commodity Credit Corporation

Notice of Availability of the Draft Programmatic Environmental Assessment for the Emergency Forestry Conservation Reserve Program

AGENCY: Commodity Credit Corporation, USDA.

ACTION: Notice.

SUMMARY: This Notice announces the availability of the draft Programmatic Environmental Assessment (PEA) for the Emergency Forestry Conservation Reserve Program (EFCRP) of the Commodity Credit Corporation. EFCRP will provide assistance for owners of forest land and timber related to losses from hurricanes during the 2005 calendar year. The draft PEA assesses the environmental impacts of this program and provides a means for the public to voice concerns about and ideas for improving the program. This Notice informs the public of the availability of the draft PEA and solicits public comment.

DATES: CCC invites comments on the draft PEA. Comments should be submitted by close of business on June 5, 2006, to ensure consideration. Comments submitted after this date will be considered to the extent possible.

ADDRESSES: Written comments on and requests for copies of the draft PEA should be directed to James P. Fortner, USDA/FSA/CEPD/Stop 0513, 1400 Independence Ave., SW., Washington, DC 20250-0513. Electronic comments may be submitted to EFCRP@wdc.usda.gov. The draft PEA is available on the FSA Worldwide Web site, in Adobe Acrobat (.pdf) format, at: http://www.fsa.usda.gov/dafp/cepd/epb/assessments.htm.

FOR FURTHER INFORMATION CONTACT: James P. Fortner, USDA/FSA/CEPD/Stop 0513, 1400 Independence Ave., SW., Washington, DC 20250-0513, (202) 720-5533, or e-mail at: james.fortner@wdc.usda.gov. Persons with disabilities who require alternative means for communication (Braille, large print, audio tape, etc.) should contact the USDA Target Center at (202) 720-2600 (voice and TDD).

SUPPLEMENTARY INFORMATION: Section 107 of the Department of Defense, Emergency Supplemental Appropriations to Address Hurricanes in the Gulf of Mexico, and Pandemic Influenza Act, 2006, (Pub. L. 109-148, December 30, 2005), authorized the EFCRP for owners and operators of private non-industrial forest land who suffered losses due to hurricanes during the 2005 calendar year. EFCRP will provide for annual rental payments or a lump sum payment equal to the present value of 10 years of annual payments. EFCRP will also provide cost-share assistance certain owners or operators of non-industrial forest land and state school trust land who experienced a loss of 35 percent or more of merchantable timber directly related to hurricanes during the 2005 calendar year.

The draft PEA assesses the potential environmental impacts of alternatives to be considered in the administration of this hurricane assistance program. The draft PEA also provides a means for the public to voice any concerns they may have about the program, and any ideas for improving it. This Notice informs the public of the availability of the applicable draft PEA and solicits public comment.

Signed in Washington, DC, on April 25, 2006.
Teresa C. Lasseter,
Executive Vice President, Commodity Credit Corporation.

[FR Doc. E6-6816 Filed 5-4-06; 8:45 am]

BILLING CODE 3410-05-P